DEPARTMENT OF TREASURY

Internal Revenue Service

Performance Review Board

AGENCY: Internal Revenue Service (IRS), Treasury.

ACTION: Notice.

SUMMARY: The purpose of this notice is to publish the names of the members of IRS' FY2003 SES Performance Review Board(s).

DATES: This notice is effective October 1, 2003.

FOR FURTHER INFORMATION CONTACT: Ann Pope, 1111 Constitution Avenue, NW, OS:HC:S, Room 3511, Washington DC 20224, (202) 622-0601

SUPPLEMENTARY INFORMATION: Pursuant to 5 U.S.C. 4314(c)(4), this notice announces the appointment of members of the Internal Revenue Service's Senior Executive Service Performance Review Board. The names and titles of the executives serving on this board follow:

John M. Dalrymple, Deputy Commissioner for Operations Support, and Chairperson, Service-wide Performance Review Board

Mark E. Matthews, Deputy Commissioner for Services and Enforcement

Kevin M. Brown, Chief of Staff

Tyrone B. Ayers, Director, Customer Assistance, Relationships and Education (W&I)

Gary D. Bell, National Director, Refund Crimes (CI)

Brady R. Bennett, Director, Strategy and Finance (SBSE)

John E. Binnion, Director, Management and Support (SBSE)

Helen H. Bolton, Director, Management Services (MITS)

C. John Crawford III, Director, Customer Account Services (SBSE)

Richard J. Cronin, Director, Personnel Services (AWSS)

Mary E. Davis, Director, Strategy and Finance (W&I)

John C. Duder, Deputy Commissioner, Wage and Investment Division

James P. Falcone, Assistant Director, Real Estate and Facilities Management (AWSS)

Fred L. Forman, Associate Commissioner for Business Systems Modernization (MITS)

W. Todd Grams, Chief Information Officer, Modernization and Information Technology Services

David A. Grant, Director, Procurement (AWSS)

Thelma Harris, Director, EEO and Diversity Field Services (AWSS)

Dale F. Hart, Commissioner, Small Business and Self-Employed Division

Thomas R. Hull, Deputy Director, Compliance Field Operations (SBSE)

Robert L. Hunt, Director, Taxpayer Education & Communications (SBSE)

Henry O. Lamar, Jr., Commissioner, Wage and Investment Division

Janis G. Landis, Director, Customer Support (AWSS)

Deborah Nolan, Commissioner, Large and Mid-Size Business Division

Richard J. Morgante, Deputy Commissioner, Tax Exempt and Government Entities Division

David B. Palmer, Chief, Criminal Investigation

Evelyn A. Petschek, Commissioner, Tax Exempt and Government Entities Division

William E. Porter, Director, Resource Allocation & Measure (MITS)

Ronald S. Rhodes, Director, Customer Account Services (W&I)

David B. Robison, Chief, Appeals

Julie Rushin, Chief of Staff (MITS)

Richard Speier, Jr., Director of Field Operations (CI)

Linda E. Stiff, Director, Compliance (W&I)

Martha Sullivan, Director, Compliance (SBSE)

Toni L. Zimmerman, Chief, Information Technology Services (MITS)

This document does not meet the Department of Treasury's criteria for significant regulations.

Dated: August 21, 2003.
John M. Dalrymple,
Deputy Commissioner for Operations Support, Internal Revenue Service.

[FR Doc. 03-22176 Filed 8-28-03; 8:45 am]

BILLING CODE 4830-01-P